DEPARTMENT OF STATE

[Public Notice 7228]

Privacy Act; System of Records: Equal Employment Opportunity Records

SUMMARY: Notice is hereby given that the Department of State proposes to amend an existing system of records, Equal Employment Opportunity Records, State-09, pursuant to the provisions of the Privacy Act of 1974, as amended (5 U.S.C. 552a) and Office of Management and Budget Circular No. A-130, Appendix I. The Department's report was filed with the Office of Management and Budget on October 20, 2010.

It is proposed that the current system will retain the name “Equal Employment Opportunity Records.” It is also proposed that the amended system description will include revisions/additions to the following sections: Categories of records, Purpose, Routine uses, Storage, as well as other administrative updates. The following section has been added to the system of records, Equal Employment Opportunity Records, State-09, to ensure Privacy Act of 1974 compliance: Purpose. Any persons interested in commenting on the amended system of records may do so by submitting comments in writing to Director, Office of Information Programs and Services, A/GIS/IPS, Department of State, SA-2, 515 22nd Street, Washington, DC 20522-8001. This system of records will be effective 40 days from the date of publication, unless we receive comments that will result in a contrary determination.

The amended system description, “Equal Employment Opportunity Records, State-09,” will read as set forth below.

Dated: October 20, 2010.
Steven J. Rodriguez,
Deputy Assistant Secretary of Operations, Bureau of Administration, U.S. Department of State.

State-09

SYSTEM NAME:

Equal Employment Opportunity Records.

SECURITY CLASSIFICATION:

Unclassified.

SYSTEM LOCATION:

Department of State, 2201 C Street, NW., Washington, DC 20520.

CATEGORIES OF INDIVIDUALS COVERED BY THE SYSTEM:

Employees and applicants for employment who have filed formal or informal complaints which allege discrimination.

CATEGORIES OF RECORDS IN THE SYSTEM:

Investigative reports; employment applications; biographic information to include race, color, national origin, sex, sexual orientation, religion, age, disability, genetic information; and employment histories.

AUTHORITY FOR MAINTENANCE OF THE SYSTEM:

42 U.S.C. 2000e; Executive Order 11478, as amended.

PURPOSE(S):

For the investigation, processing and resolution of formal and informal complaints of discrimination filed against the Department of State in accordance with 29 CFR 1614 and the Department's internal procedures for addressing Equal Employment Opportunity (EEO) complaints.

ROUTINE USES OF RECORDS MAINTAINED IN THE SYSTEM, INCLUDING CATEGORIES OF USERS AND PURPOSES OF SUCH USES:

Records from this system will be disclosed to other federal agencies for purposes of investigating, processing, adjudicating, resolving and litigating EEO complaints involving more than one agency, or in situations where the Department of State has requested that another federal agency provide investigative support for an EEO complaint.

The Department of State periodically publishes in the Federal Register its standard routine uses that apply to all of its Privacy Act systems of records. These notices appear in the form of a Prefatory Statement. These standard routine uses apply to the Equal Employment Opportunity Records, State-09.

DISCLOSURE TO CONSUMER REPORTING AGENCIES:

None.

POLICIES AND PRACTICES FOR STORING, RETRIEVING, ACCESSING, RETAINING, AND DISPOSING OF RECORDS IN THE SYSTEM:

STORAGE:

Hard copy and electronic.

RETRIEVABILITY:

By individual name.

SAFEGUARDS:

All users are given cyber security awareness training which covers the procedures for handling Sensitive but Unclassified information, including personally identifiable information. Annual refresher training is mandatory. Before being granted access to Equal Employment Opportunity Records, a user must first be granted access to the Department of State computer system.

Remote access to the Department of State network from non-Department owned systems is authorized only through a Department-approved access program. Remote access to the network is configured with the Office of Management and Budget Memorandum M-07-16 security requirements, which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage.

When it is determined that a user no longer needs access, the user account is disabled.

RETENTION AND DISPOSAL:

Records are retired or destroyed in accordance with published records disposition schedules of the Department of State and as approved by the National Archives and Records Administration (NARA). More specific information may be obtained by writing the Director, Office of Information Programs and Services, Department of State, SA-2, 515 22nd Street, NW., Washington, DC 20522-8001.

SYSTEM MANAGER AND ADDRESS:

Director, Office of Civil Rights, Room 7428, Department of State, 2201 C Street, NW., Washington, DC 20520.

NOTIFICATION PROCEDURES:

Individuals who have cause to believe that the Office of Civil Rights might have records pertaining to them should write to the Director, Office of Information Programs and Services, Department of State, SA-2, 515 22nd Street, NW., Washington, DC 20522-8001. The individual must specify that he/she wishes the records of the Office of Civil Rights to be checked. At a minimum, the individual must include: Name; date and place of birth; current mailing address and zip code; signature; the approximate date upon which the individual filed a formal or informal complaint alleging discrimination or requested other services from the Office of Civil Rights.

RECORD ACCESS AND AMENDMENT PROCEDURES:

Individuals who wish to gain access to or amend records pertaining to themselves should write to the Director, Office of Information Programs and Services (address above).

CONTESTING RECORD PROCEDURES:

(See above).

RECORD SOURCE CATEGORIES:

The individual; supervisors of the individual; EEO counselors; EEO personnel; and other employees or individuals having knowledge of the facts involved in the complaint.

SYSTEM EXEMPTED FROM CERTAIN PROVISION OF THE ACT:

Certain records contained within this system of records are exempted from 5 U.S.C. 552a(k)(5). See 22 CFR 171.36.

[FR Doc. 2010-28989 Filed 11-16-10; 8:45 am]

BILLING CODE 4710-24-P